DEPARTMENT OF EDUCATION

National Assessment Governing Board

Committee and Quarterly Board Meetings

AGENCY: National Assessment Governing Board, Department of Education.

ACTION: Notice of open and closed meetings.

SUMMARY: This notice sets forth the agenda, time, and instructions to access the National Assessment Governing Board's (hereafter referred to as the Board or Governing Board) standing committee meetings and quarterly Governing Board meeting. This notice provides information to members of the public who may be interested in attending the meetings and/or providing written comments related to the work of the Governing Board. The meetings will be held either in person and/or virtually, as noted below. Members of the public must register in advance to attend the meetings virtually. A registration link will be posted on the Governing Board's website, www.nagb.gov, five (5) business days prior to each meeting.

DATES: The Quarterly Board Meeting will be held on the following dates:

• August 8, 2024, from 1:00 p.m. to 5:15 p.m., ET

• August 9, 2024, from 9:00 a.m. to 3:00 p.m., ET

ADDRESSES: The Colonnade Hotel, 120 Huntington Avenue, Boston, MA 02116.

FOR FURTHER INFORMATION CONTACT: Angela Scott, Designated Federal Officer (DFO) for the Governing Board, 800 North Capitol Street NW, Suite 825, Washington, DC 20002, telephone: (202) 357-7502, fax: (202) 357-6945, email: Angela.Scott@ed.gov.

SUPPLEMENTARY INFORMATION:

Statutory Authority and Function: The Governing Board is established under the National Assessment of Educational Progress Authorization Act (20 U.S.C. 9621). Information on the Governing Board and its work can be found at www.nagb.gov. Notice of the meetings is required under section 1009(a)(2) of 5 U.S.C. chapter 10 (commonly known as the Federal Advisory Committee Act). The Governing Board formulates policy for the National Assessment of Educational Progress (NAEP) administered by the National Center for Education Statistics (NCES). The Governing Board's responsibilities include:

(1) selecting the subject areas to be assessed; (2) developing appropriate student achievement levels; (3) developing assessment objectives and testing specifications that produce an assessment that is valid and reliable, and are based on relevant widely accepted professional standards; (4) developing a process for review of the assessment which includes the active participation of teachers, curriculum specialists, local school administrators, parents, and concerned members of the public; (5) designing the methodology of the assessment to ensure that assessment items are valid and reliable, in consultation with appropriate technical experts in measurement and assessment, content and subject matter, sampling, and other technical experts who engage in large scale surveys; (6) measuring student academic achievement in grades 4, 8, and 12 in the authorized academic subjects; (7) developing guidelines for reporting and disseminating results; (8) developing standards and procedures for regional and national comparisons; (9) taking appropriate actions needed to improve the form, content use, and reporting of results of an assessment; and (10) planning and executing the initial public release of NAEP reports.

Standing Committee Meetings

The Governing Board's standing committees will meet to conduct regularly scheduled work. Standing committee meeting agendas and meeting materials will be posted on the Governing Board's website, www.nagb.gov, no later than five (5) business days prior to the meetings. Minutes of prior standing committee meetings are available at https://www.nagb.gov/governing-board/quarterly-board-meetings.html.

Standing Committee Meetings

Monday, July 22, 2024

Executive Committee (Virtual)

3:00 p.m.-4:15 p.m. (ET), Open Session

4:15 p.m.-5:00 p.m. (ET), Closed Session

The Executive Committee will meet in open session on Monday, July 22, 2024, from 3:00 p.m.-4:15 p.m. to review the August 8-9, 2024, quarterly Board meeting agenda and to receive an update from Lesley Muldoon, Governing Board Executive Director, on the Board's ongoing work and the Strategic Vision. The Executive Committee will meet in closed session from 4:15 p.m.-5:00 p.m. to receive an update on the NAEP budget and contracts from Peggy Carr, Commissioner, NCES, and Dan McGrath, Delegated Authority of Associate Commissioner, NCES. These briefings must be closed because discussions pertain to the federal budget and acquisition process. Public disclosure of this confidential information would significantly impede implementation of the NAEP assessment program if conducted in open session. Such matters are protected by exemption 9(B) of section 552b(c) of title 5 of the United States Code.

Wednesday, August 7, 2024

Executive Committee (In-Person)

4:00 p.m.-4:10 p.m. (ET), Open Session

4:10 p.m.-5:00 p.m. (ET), Closed Session

The Executive Committee will meet in open session on Wednesday, August 7, 2024, from 4:00 p.m.-4:10 p.m. to vote on a nominee to serve as Vice Chair of the Governing Board for 2024-2025. The Committee will meet in closed session from 4:10 p.m. to 5:00 p.m. From 4:10 p.m. to 4:30 p.m., the committee will receive an update on the Governing Board's budget, followed by a discussion on the Board's legislative roles and responsibilities from 4:30 p.m. to 5:00 p.m. These discussions have implications for the Board's budgeting process and must be kept confidential. Such matters are protected by exemption 9(B) of section 552b(c) of title 5 of the United States Code.

Thursday, August 8, 2024

Assessment Development Committee (In-Person Meeting)

3:15 p.m.-4:15 p.m. (ET) Closed Session

4:15-5:15 p.m. (ET) Open Session

The Assessment Development Committee will meet in closed session on Thursday, August 8, 2024, from 3:15 p.m.-4:15 p.m. to review scenario-based tasks (SBT) concept sketches for 2028 NAEP Science Assessment at Grades 4 and 8. This review must be conducted in closed session because the test items are secure and have not been released to the public. Public disclosure of this information would significantly impede the implementation of the NAEP assessment program if conducted in open session. Such matters are protected by exemption 9(B) of the Government in the Sunshine Act, 5 U.S.C. 552b. The committee will then convene in open session from 4:15 p.m.-5:15 p.m. From 4:15 p.m. to 4:55 p.m., the committee will discuss the proposed changes to the Assessment Framework Development Policy. From 4:55 p.m. to 5:05 p.m., the committee will receive an update on work of the Social Studies Content Advisory Group. From 5:05 to 5:15 p.m., the committee will receive an update on NAEP Long-Term Trend.

Committee on Standards, Design and Methodology (In-Person Meeting)

3:15 p.m.-4:15 p.m. (ET) Open Session

4:15 p.m.-5:15 p.m. (ET) Closed Session

The Committee on Standards, Design and Methodology will meet in open session on Thursday, August 8, 2024, from 3:15 p.m. to 4:15 p.m., to receive a presentation on a final draft of a NAEP Achievement Levels Validity Argument report. From 4:15 to 5:15 p.m., the committee will meet in closed session for an update by NCES on automated scoring feasibility and equity studies. This presentation must be conducted in closed session because the study findings have not been released to the public. Public disclosure of this information would significantly impede the implementation of the NAEP assessment program if conducted in open session. Such matters are protected by exemption 9(B) of the Government in the Sunshine Act, 5 U.S.C. 552b. From

Reporting and Dissemination Committee (In-Person Meeting)

3:15 p.m.-3:55 p.m. (ET) Closed Session

3:55 p.m.-5:15 p.m. (ET) Open Session

The Reporting and Dissemination Committee will meet on Thursday, August 8, 2024, from 3:15 p.m. to 5:15 p.m. The committee will meet in closed session from 3:15 p.m. to 4:30 p.m. to receive an update on the new index of socioeconomic status (which will refer to undisclosed, embargoed data that cannot be revealed to the public at this time) and to learn about proprietary data that has not been released to the public. Premature disclosure of this information would significantly impede the implementation of the NAEP assessment program. Such matters are protected by exemption 9(B) of the Government in the Sunshine Act, 5 U.S.C. 552b. The committee meeting will open to the public at 4:30 p.m. to hear an update on the strategic communications work of the Board staff.

Quarterly Governing Board Meeting

The plenary sessions of the Governing Board's August 2024 quarterly meeting will be held on the following dates and times:

Thursday, August 8, 2024

1:00 p.m.-5:15 p.m. (ET) (Hybrid Meeting), Open Session

On Thursday, August 8, 2024, the plenary session of the quarterly Governing Board meeting will convene in open session from 1:00 p.m.-3:00 p.m. From 1:00-1:10 p.m., Beverly Perdue, Chair of the Governing Board, will welcome members, review, and approve the August 8-9, 2024, quarterly Governing Board meeting agenda, and approve the minutes from the May 16-17, 2024, Governing Board meeting. The Board will consider the recommendation by the Executive Committee and vote on the nominee to serve as Governing Board Vice Chair for term October 1, 2024-September 30, 2025.

From 1:10 p.m. to 1:40 p.m., Lesley Muldoon, Governing Board Executive Director, will provide an update on ongoing work, followed by an update from Peggy Carr, NCES Commissioner, from 1:40 p.m. to 2:10 p.m. From 2:10 p.m. to 3:00 p.m., the Board will discuss and take action on the Strategic Vision 2030. Following a fifteen-minute break, the Board's standing committees will convene from 3:15 p.m. to 5:15 p.m., as noted above. The Thursday, August 8, 2024, session of the Governing Board meeting will adjourn at 5:15 p.m.

Friday, August 9, 2024

9:00 a.m.-12:20 p.m. (ET) (Hybrid Meeting), Closed Session

12:30 p.m.-3:00 p.m. (ET) (Hybrid Meeting), Open Session

On Friday, August 9, 2024, the Governing Board meeting will convene in three closed sessions from 9:00 a.m. to 12:20 p.m. and thereafter in open session from 12:30 p.m. to 3:00 p.m.

The Governing Board will convene in closed session from 9:00 a.m.-10:00 a.m. to receive a briefing and update on the NAEP budget and contracts from Peggy Carr, NCES Commissioner, and Dan McGrath, Delegated Authority of Associate Commissioner, NCES. After a short transitional break, the Board will convene in a second closed session from 10:05 a.m. to 11:20 a.m. to receive an embargoed briefing on the NAEP State Mapping Study. The Board will convene in the third closed session from 11:20 a.m. to 12:20 p.m. to receive a presentation on research and development priorities for NAEP. These sessions must be closed because the discussions pertain to the federal budget and acquisition process and study findings. Public disclosure of this confidential information would significantly impede implementation of the NAEP assessment program if conducted in open session. Such matters are protected by exemption 9(B) of the Government Sunshine Act, 5 U.S.C. 552b.

The Board will convene in open session from 12:30 p.m. to 2:00 p.m. to discuss ethical considerations for Artificial Intelligence (AI) in large scale assessment. From 2:00 p.m. to 2:30 p.m., Board members will have an open discussion, followed by farewell remarks by departing members from 2:30 p.m. to 3:00 p.m. The Friday, August 9, 2024, session of the meeting will adjourn at 3:00 p.m.

Instructions for Accessing and Attending the Meetings

Registration: Members of the public may attend the August 8-9, 2024, meetings of the full Governing Board either in person or virtually. A link to the final meeting agenda and information on how to register for virtual attendance for the open sessions will be posted on the Governing Board's website, www.nagb.gov, no later than five (5) business days prior to the meeting. Registration is required to join the meeting virtually.

Public Comment: Written comments related to the work of the Governing Board and its standing committees may be submitted to the attention of the DFO. Written comments may be submitted either via email to Angela.Scott@ed.gov or in hard copy to the address listed above. Written comments related to the August 8-9, 2024 Governing Board meeting should be submitted no later than close of business on August 1, 2024, and should reference the relevant agenda item.

Access to Records of the Meeting: Pursuant to 5 U.S.C. 1009, the public may inspect the meeting materials, which will be posted no later than five (5) business days prior to each meeting, at www.nagb.gov. The public may also inspect the meeting materials and other Governing Board records at 800 North Capitol Street NW, Suite 825, Washington, DC 20002, by emailing Angela.Scott@ed.gov to schedule an appointment. The official verbatim transcripts of the open meeting sessions will be available for public inspection no later than 30 calendar days following each meeting and will be posted on the Governing Board's website. Requests for the verbatim transcriptions may be made via email to the DFO.

Reasonable Accommodations: The meeting location is accessible to individuals with disabilities. If you will need an auxiliary aid or service to participate in the meeting (e.g., interpreting service, assistive listening device, or materials in an alternate format), notify the DFO listed in this notice by close of business on August 1, 2024.

Electronic Access to this Document: The official version of this document is the document published in the Federal Register. Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the Adobe website. You may also access documents of the Department published in the Federal Register by using the article search feature at: www.federalregister.gov. Specifically, through the advanced search feature at this site, you can limit your search to documents published by the Department.

Authority: Pub. L. 107-279, title III, section 301—National Assessment of Educational Progress Authorization Act (20 U.S.C. 9621).

Lesley Muldoon,
Executive Director, National Assessment Governing Board (NAGB), U.S. Department of Education.

[FR Doc. 2024-15659 Filed 7-16-24; 8:45 am]

BILLING CODE 4000-01-P